GENERAL SERVICES ADMINISTRATION

[Notice-MRB-2022-06; Docket No. GAPFAC 2022-0001; Sequence No. 2]

GSA Acquisition Policy Federal Advisory Committee; Notification of Upcoming Web-Based Public Meeting

AGENCY: Office of Government-wide Policy, General Services Administration (GSA).

ACTION: Notice.

SUMMARY: GSA is providing notice of a meeting of the GSA Acquisition Policy Federal Advisory Committee (hereinafter “the Committee” or “the GAP FAC”) in accordance with the requirements of the Federal Advisory Committee Act. This meeting will be open to the public. Information on attending and providing written public comment is under the SUPPLEMENTARY INFORMATION section.

DATES: The GAP FAC will hold a web-based open public meeting on January 12, 2023, from 1:00 p.m. to 4:30 p.m. Eastern Standard Time (EST).

ADDRESSES: The meeting will be accessible via webcast. Registrants will receive the webcast information before the meeting.

FOR FURTHER INFORMATION CONTACT: Boris Arratia, Designated Federal Officer, Office of Government-wide Policy, 703-795-0816, or email: boris.arratia@gsa.gov; or Stephanie Hardison, Office of Government-wide Policy, 202-258-6823, or email: stephanie.hardison@gsa.gov. Additional information about the Committee, including meeting materials and agendas, will be available on-line at https://gsa.gov/policy-regulations/policy/acquisition-policy/gsa-acquisition-policy-federal-advisory-committee.

SUPPLEMENTARY INFORMATION: The Administrator of GSA established the GSA Acquisition Policy Federal Advisory Committee) as a discretionary advisory committee under agency authority in accordance with the provisions of the Federal Advisory Committee Act (FACA), as amended (5 U.S.C. App 2).

As America's buyer, GSA is uniquely positioned to enable a modern, accessible, and streamlined acquisition ecosystem and a robust marketplace connecting buyers to the suppliers and businesses that meet their mission needs. The GAP FAC will assist GSA in this endeavor through expert advice on a broad range of innovative solutions to acquisition policy, workforce, and industry partnership challenges.

The GAP FAC will serve as an advisory body to GSA's Administrator on how GSA can use its acquisition tools and authorities to target the highest priority Federal acquisition challenges. The initial focus for the GAP FAC will be on driving regulatory, policy, and process changes required to embed climate and sustainability considerations in Federal acquisition. This includes examining and recommending steps GSA can take to support its workforce and industry partners in ensuring climate and sustainability issues are fully considered in the acquisition process.

Purpose of the Meeting

The purpose of this meeting is for each of three subcommittees (Policy and Practice, Industry Partnerships, and Acquisition Workforce) to propose priority topics to be addressed by the GAP FAC. The Committee will, in turn, deliberate and select the priority topics it will undertake to advise GSA on.

Meeting Agenda

• Opening Remarks

• Policy and Practices Subcommittee Proposed Priority Topics

• Industry Partnerships Subcommittee Proposed Priority Topics

• Acquisition Workforce Subcommittee Proposed Priority Topics

• Discussion and Selection of GAP FAC Priority Topics

• Closing Remarks and Adjourn

Meeting Registration

This meeting is open to the public and will be accessible by webcast. All public attendees will need to register to obtain the meeting webcast information. Registration information is located on the GAP FAC website: https://www.gsa.gov/policy-regulations/policy/acquisition-policy/gsa-acquisition-policy-federal-advisory-committee. All registrants will be asked to provide their name, affiliation, and email address. After registration, individuals will receive webcast access information via email.

Public Comments

Written public comments are being accepted via http://www.regulations.gov, the Federal eRulemaking portal throughout the life of the Committee and three Subcommittees. To submit a written public comment, go to http://www.regulations.gov and search for GAPFAC-2022-0001. Select the link “Comment Now” that corresponds with this notice. Follow the instructions provided on the screen. Please include your name, company name (if applicable), and “GAPFAC-2022-0001, Notification of Upcoming Web-Based Public Meetings” on your attached document (if applicable).

Special Accommodations

For information on services for individuals with disabilities, or to request accommodation of a disability, please contact the Designated Federal Officer at least 10 business days prior to the meeting to give GSA as much time as possible to process the request. Closed captioning and live American Sign Language (ASL) interpreter services will be available.

Jeffrey A. Koses,
Senior Procurement Executive, Office of Acquisition Policy, Office of Government-wide Policy.

[FR Doc. 2022-27279 Filed 12-15-22; 8:45 am]

BILLING CODE 6820-RV-P